DEPARTMENT OF THE INTERIOR

National Park Service

Finding of No Significant Impact (FONSI) for Environmental Assessment on the Mount Vernon Trail Bridge #12 Safety Realignment

AGENCY: National Park Service, Interior.

ACTION: Availability of the FONSI and decision record for the proposed safety improvements to Bridge #12 located approximately ¼ mile north of the southbound Fort Hunt exit of the George Washington Memorial Parkway along the Mount Vernon Trail.

SUMMARY: Pursuant to Council on Environmental Quality regulations and National Park Service policy, the National Park Service announces the availability of the FONSI and decision record for the proposed safety improvements on and around Mount Vernon Trail Bridge #12 within the George Washington Memorial Parkway. The FONSI and decision record identifies Alternative 2 as the preferred Alternative in the “Environmental Assessment for the Mount Vernon Trail Bridge #12 Safety Realignment.” Under this alternative, trail realignment and bridge construction will correct the steep and sharp-curved approaches to the bridge, provide a more sustainable bridge structure, provide for safety on the bridge, and continue to protect natural and cultural resources in and around the bridge. All environmental measures will be taken to minimize impacts to resources during old bridge demolition and new bridge construction.

DATES: The Environmental Assessment, upon which the FONSI determination was made, was available for public comment from May 31-June 29, 2001 and one written comment was received in support of the project.

ADDRESSES: The FONSI and decision record will be available for public inspection Monday through Friday, 8:00 a.m. through 4:00 p.m. at George Washington Memorial Parkway Headquarters, Turkey Run Park, McLean, VA.

SUPPLEMENTARY INFORMATION: The FONSI and decision record completes the Environmental Assessment process.

FOR FURTHER INFORMATION CONTACT: Ms. Ann Brazinski (703) 289-2541.

Rich Foster,
Acting Superintendent, George Washington Memorial Parkway.

[FR Doc. 02-7379 Filed 3-27-02; 8:45 am]

BILLING CODE 4310-70-P